DEPARTMENT OF LABOR

Employment and Training Administration

[NAFTA-04636]

Freightliner LLC Truck Manufacturing and Parts Plant, Portland, Oregon; Amended Certification Regarding Eligibility To Apply for NAFTA-Transitional Adjustment Assistance

In accordance with section 250(A), Subchapter D, Chapter 2, Title II, of the Trade Act of 1974 (19 USC 2273), the Department of Labor issued a Certification for NAFTA Transitional Adjustment Assistance on November 19, 2001, applicable to workers of Freightliner LLC, Truck Manufacturing Plant, Portland, Oregon. The notice was published in the Federal Register on December 5, 2001 (66 FR 63262).

At the request of the petitioner, the Department reviewed the certification for workers of the subject firm. The workers are engaged in the production of medium and heavy-duty trucks.

New information shows that the Department incorrectly identified the subject firm name in its entirety. The Department is amending the certification determination to correctly identify the subject firm title name to read Freightliner LLC, Truck Manufacturing and Parts Plant.

Accordingly, the Department is amending the certification to properly reflect this matter.

The intent of the Department's certification is to include all workers of Freightliner LLC, Truck Manufacturing and Parts Plant, Portland, Oregon, who were adversely affected by a shift in production of medium and heavy-duty trucks to Mexico.

The amended notice applicable to NAFTA—04636 is hereby issued as follows:

All workers of Freightliner, LLC, Truck Manufacturing and Parts Plant, Portland, Oregon, who became totally or partially separated from employment on or after March 9, 2000, through November 19, 2003, are eligible to apply for NAFTA-TAA under Section 250 of the Trade Act of 1974.

Signed at Washington, DC this 11th day of January, 2002.
Linda G. Poole,
Certifying Officer, Division of Trade Adjustment Assistance.

[FR Doc. 02-1780 Filed 1-23-02; 8:45 am]

BILLING CODE 4510-30-M